NATIONAL ARCHIVES AND RECORDS ADMINISTRATION

36 CFR Part 1253

RIN 3095-AB20

NARA Facilities; Phone Numbers

AGENCY: National Archives and Records Administration (NARA).

ACTION: Final rule.

SUMMARY: The National Archives and Records Administration is updating the phone numbers for its Presidential libraries and regional records facilities. The Presidential libraries and regional records facilities are open to the public and other Federal agency staff for visitation and use of records for research. This final rule also corrects the hours for the Washington National Records Center, which are from 8 a.m. to 4:30 p.m. This final rule affects the public.

EFFECTIVE DATE: June 4, 2003.

FOR FURTHER INFORMATION CONTACT: Kim Richardson at telephone number 301-837-2902 or fax number 301-837-0319.

SUPPLEMENTARY INFORMATION: This rule is effective upon publication for good cause as permitted by the Administrative Procedure Act (5 U.S.C. 553(d)(3)). NARA believes that delaying the effective date for 30 days is unnecessary as this rule represents minor technical amendments. Moreover, as the public benefits immediately being provided with corrections to phone numbers for Presidential libraries and the regional records facilities, and a correction to the hours that the Washington National Records Center is open to the public, any delay in the effective date would be contrary to the public interest.

This rule is not a significant regulatory action for the purposes of Executive Order 12866 and has not been reviewed by the Office of Management and Budget. This rule is not a major rule as defined in 5 U.S.C. chapter 8, Congressional Review of Agency Rulemaking. As required by the Regulatory Flexibility Act, I certify that this rule will not have a significant impact on a substantial number of small entities. This regulation does not have any federalism implications.

List of Subjects in 36 CFR Part 1253

Archives and records.

For the reasons set forth in the preamble, NARA amends part 1253 of title 36, Code of Federal Regulations, chapter XII, as follows:

PART 1253—LOCATION OF RECORDS AND HOURS OF USE

1. The authority citation for part 1253 continues to read as follows:

Authority: 44 U.S.C. 2104(a).

2. Amend § 1253.3 by revising paragraphs (b), (e), (f), and (j) to read as follows:

§ 1253.3 Presidential Libraries.

* * * * *

(b) Franklin D. Roosevelt Library is located at 4079 Albany Post Rd., Hyde Park, NY 12538-1999. The phone number is 845-486-7770 and the fax number is 845-486-1147. The email address is roosevelt.library@nara.gov.

* * * * *

(e) John Fitzgerald Kennedy Library is located at Columbia Point, Boston, MA 02125-3398. The phone number is 617-514-1600 and the fax number is 617-514-1593. The email address is kennedy.library@nara.gov.

(f) Lyndon Baines Johnson Library is located at 2313 Red River St., Austin, TX 78705-5702. The phone number is 512-721-0200 and the fax number is 512-721-0236. The email address is johnson.library@nara.gov.

* * * * *

(j) George Bush Library is located at 1000 George Bush Drive West, College Station, TX 77845. The phone number is 979-691-4000 and the fax number is 979-691-4050. The email address is bush.library@nara.gov.

3. Revise § 1253.4 to read as follows:

§ 1253.4 Washington National Records Center.

Washington National Records Center is located at 4205 Suitland Road, Suitland, MD (mailing address: Washington National Records Center, 4205 Suitland Road, Suitland, MD, 20746-8001). The hours are 8 a.m. to 4:30 p.m., Monday through Friday, except Federal holidays. The phone number is 301-778-1600.

4. Amend § 1253.6 by revising paragraphs (a) through (d) to read as follows:

§ 1253.6 Records Centers.

* * * * *

(a) NARA—Northeast Region (Boston) is located at the Frederick C. Murphy Federal Center, 380 Trapelo Rd., Waltham, MA 02452-6399. The hours are 8 a.m. to 4:30 p.m., Monday through Friday. The telephone number is 781-663-0139.

(b) NARA—Northeast Region (Pittsfield, MA) is located at 10 Conte Drive, Pittsfield, MA 01201-8230. The hours are 8 a.m. to 4:30 p.m., Monday through Friday. The telephone number is 413-236-3600.

(c) NARA—Mid Atlantic Region (Northeast Philadelphia) is located at 14700 Townsend Rd., Philadelphia, PA 19154-1096. The hours are 8 a.m. to 4:30 p.m., Monday through Friday. The telephone number is 215-305-2003.

(d) NARA—Southeast Region (Atlanta) is located at 1557 St. Joseph Ave., East Point, GA 30344-2593. The hours are 7 a.m. to 4 p.m., Monday through Friday. The telephone number is 404-763-7063.

* * * * *

5. Amend § 1253.7 by revising paragraphs (a) through (d) to read as follows:

§ 1253.7 Regional Archives.

* * * * *

(a) NARA—Northeast Region (Boston) is located in the Frederick C. Murphy Federal Center, 380 Trapelo Rd., 8 a.m. to 4:30 p.m., Monday through Friday. The telephone number is 781-663-0121.

(b) NARA—Northeast Region (Pittsfield, MA) is located at 10 Conte Drive, Pittsfield, MA 01201-8230. The hours are 8 a.m. to 4:30 p.m., Monday through Friday. The telephone number is 413-236-3600.

(c) NARA—Northeast Region (New York City) is located at 201 Varick St., New York, NY 10014-4811. The hours are 8 a.m. to 4:30 p.m., Monday through Friday. The telephone number is 212-401-1620.

(d) NARA—Mid Atlantic Region (Center City Philadelphia) is located at 900 Market St., Philadelphia, PA 19107-4292. The hours are 8 a.m. to 5 p.m., Monday through Friday. The telephone number is 215-597-0921.

* * * * *

Dated: May 29, 2003.
John W. Carlin,
Archivist of the United States.

[FR Doc. 03-13917 Filed 6-3-03; 8:45 am]

BILLING CODE 7515-01-P